NUCLEAR REGULATORY COMMISSION

[NRC-2008-0419]

Security and Continued Use of Cesium-137 Chloride Sources: Granting Extension of Comment Period

AGENCY: U.S. Nuclear Regulatory Commission (NRC).

ACTION: Notice of Granting of Request to Extend the Comment Period on the Issues described in the Notice on the Security and Continued Use of Cesium-137 Chloride Sources.

FOR FURTHER INFORMATION CONTACT: Dr. John P. Jankovich, Office of Federal and State Materials and Environmental Management Programs, telephone (301) 415-7904, e-mail john.jankovich@nrc.gov, or Dr. Cynthia Jones, Office of Nuclear Security and Incident Response, telephone (301) 415-0298, e-mail cynthia.jones@nrc.gov.

SUPPLEMENTARY INFORMATION:

I. Introduction

On July 31, 2008, the NRC issued a notice in the Federal Register which requested, in part, public comments on the issues presented in the notice on the security and continued use of cesium-137 chloride sources (73 FR 44780). The notice requested early public input on major issues associated with the use of certain forms of cesium-137 chloride currently used by NRC- and Agreement State-licensees. While the NRC has not initiated rulemaking on this subject, NRC used the conventionally established rulemaking comment channels for obtaining comments.

II. Further Information

The NRC staff requested receipt of comments on the notice by September 30, 2008. By this action, the NRC staff is extending the comment period until October 15, 2008. Comments received after October 15, 2008, will be considered if practical to do so, but the NRC is unable to ensure consideration only for comments received on or before this date. Although a time limit is given, comments and suggestions in connection with the use of cesium-137 chloride sources are encouraged at any time.

In addition to inviting public comments on the issues presented in section III of the July 31, 2008 notice, the NRC also solicited specific comments related to: (1) Quantitative information on the costs and benefits resulting from consideration of the factors described in the Issues Paper; (2) operational data on radiation exposures (increased or reduced) that might result from implementing any of the options described in the Issues Paper; (3) whether the presented issues are addressed comprehensively; and (4) whether other options should be considered, including quantitative information on the costs and benefits for these other options. The Commission believes that stakeholder comments help to quantify the potential impact of these proposed changes and will assist the NRC as potential regulatory action(s) are developed.

III. Request To Extend the Comment Period

Basis for the Request

The NRC received the following extension request:

On behalf of industry, the Nuclear Energy Institute (NEI) respectfully requests an extension of the comment period identified in the subject Federal Register notice (FRN) entitled, “Request for Comments on the Security and Continued Use of Cesium-137 Chloride Sources and Notice of Public Meeting” dated July 31, 2008. Specifically, the FRN states that stakeholder comments on the Cesium-137 Chloride source issues raised therein should be submitted to NRC no later than September 30, 2008. This date coincides with the last day of the scheduled public meeting, which industry fully supports. We believe that industry, the public and other stakeholder comments on these complex matters would be greatly informed by the deliberations that will inevitably occur during the two day meeting which commences on September 29, 2008. Therefore, we request that the comment period be extended, at a minimum, 30 days so as to close no earlier than October 30, 2008.

The NRC received similar requests from the Conference of Radiation Control Program Directors, Inc., (CRCPD), and from the International Source Suppliers and Producers Association (ISSPA), both dated September 19, 2008, for extension of the comment period from September 30 to October 30, 2008.

Response to Request

The request for an extension to the comment period is approved for 15 days.

The staff understands that NEI, CRCPD and ISSPA requested an extension of 30 days. However, NRC can not grant the full extension because the comments are needed by mid-October for development of future NRC actions for Commission consideration by November 2008. Therefore, the staff is approving a 15-day extension to the original public comment period, with the public comment period to end on October 15, 2008. The staff recognizes that the public and other stakeholder comments may be impacted by the discussions that will occur during the two-day public meeting which concludes on September 30, 2008, and therefore agrees to extend the comment period an additional 15 days.

Members of the public are invited and encouraged to submit comments electronically to http://www.regulations.gov. Search on Docket ID: [NRC-2008-0419] and follow the instructions for submitting comments. Comments may also be sent by mail to Michael Lesar, Chief, Rulemaking, Directives and Editing Branch, Office of Administration, Mail Stop T-6D59, U.S. Nuclear Regulatory Commission, Washington, DC 20555-0001.

Requests for technical information may be directed to the NRC contacts, Dr. John P. Jankovich, Office of Federal and State Materials and Environmental Management Programs, telephone (301) 415-7904, e-mail john.jankovich@nrc.gov, or Dr. Cynthia Jones, Office of Nuclear Security and Incident Response, telephone (301) 415-0298, e-mail cynthia.jones@nrc.gov.

You can also access publicly available documents related to the July 31, 2008 notice using the following methods:

Regulations.gov: Documents related to this notice, including public comments, are accessible at http://www.regulations.gov, by searching on docket ID: NRC-2008-0419. Electronic copies of the July 31, 2008 notice and the workshop agenda are also available through NRC's public Web site at http://www.nrc.gov/materials/miau/licensing.html.

NRC's Public Document Room (PDR): The public may examine and have copied for a fee, publicly available documents at the NRC's PDR, Public File Area O-1F21, One White Flint North, 11555 Rockville Pike, Rockville, Maryland.

NRC's Agency wide Document Access and Management System (ADAMS): Publicly available documents created or received at the NRC after November 1, 1999, are available electronically at the NRC's Electronic Reading Room at http://www.nrc.gov/reading-rm/adams.html. From this site, the public can gain entry into ADAMS, which provides text and image files of NRC's public documents. If you do not have access to ADAMS or if there are problems in accessing the documents located in ADAMS, contact the PDR Reference staff at 1-800-397-4209, 301-415-4737 or by e-mail to pdr.resource@nrc.gov.

Dated at Rockville, Maryland, this 22nd day of September 2008.
For the Nuclear Regulatory Commission.
John P. Jankovich,
Team Leader, Office of Federal and State Materials and Environmental Management Program.

[FR Doc. E8-22688 Filed 9-25-08; 8:45 am]

BILLING CODE 7590-01-P